ENVIRONMENTAL PROTECTION AGENCY

[EPA-HQ-OAR-2004-0015 and EPA-HQ-OAR-2004-0016; FRL 9514-8]

Agency Information Collection Activities; Submission to OMB for Review and Approval; Comment Request; Part 70 State Operating Permit Program (Renewal) and Part 71 Federal Operating Permit Program (Renewal)

AGENCY: Environmental Protection Agency (EPA).

ACTION: Notice.

SUMMARY: In compliance with the Paperwork Reduction Act (PRA) (44 U.S.C. 3501 et seq.), this document announces that two Information Collection Requests (ICRs) have been forwarded to the Office of Management and Budget (OMB) for review and approval. This is a request to renew two existing approved collections. The ICRs, which are abstracted below, describe the nature of the two information collections and the estimated burdens and costs.

DATES: Additional comments may be submitted on or before May 25, 2012.

ADDRESSES: Submit your comments, referencing Docket ID No. EPA-HQ-OAR-2004-0015 (for the Part 70 state program) or Docket ID No. EPA-HQ-OAR-2004-0016 (for the Part 71 federal program), to (1) the EPA online using www.regulations.gov (our preferred method), by email at a-and-r-docket@epa.gov or by mail to: Air and Radiation Docket and Information Center, Mailcode: 28221T, Environmental Protection Agency, 1200 Pennsylvania Ave. NW., Washington, DC 20460, and (2) the OMB by mail to: Office of Information and Regulatory Affairs, Office of Management and Budget (OMB), Attention: Desk Officer for EPA, 725 17th Street NW., Washington, DC 20503.

FOR FURTHER INFORMATION CONTACT: Mr. Jeff Herring, Air Quality Policy Division, Office of Air Quality Planning and Standards, (C504-05), Environmental Protection Agency, Research Triangle Park, North Carolina 27711; telephone number: (919) 541-3195; fax number: (919) 541-5509; email address: herring.jeff@epa.gov.

SUPPLEMENTARY INFORMATION: The EPA has submitted the following ICRs to the OMB for review and approval according to the procedures prescribed in 5 CFR 1320.12. On December 14, 2011 (76 FR 77820), the EPA sought comments on the two ICRs pursuant to 5 CFR 1320.8(d). The EPA received no comments. Any additional comments on the two ICRs should be submitted to the EPA and the OMB within 30 days of this notice.

The EPA has established a public docket for the Part 70 ICR renewal under Docket ID No. EPA-HQ-OAR-2004-0015 and a public docket for the Part 71 ICR renewal under Docket ID No. EPA-HQ-OAR-2004-0016, which are available at www.regulations.gov. Use the EPA's electronic docket and comment system at www.regulations.gov, to submit or view public comments.

Title: Part 70 State Operating Permit Program (Renewal) and Part 71 Federal Operating Permit Program (Renewal).

ICR numbers: For the Part 70 regulations, EPA ICR No. 1587.12 and OMB Control No. 2060-0243. For the Part 71 regulations, EPA ICR No. 1713.10 and OMB Control No. 2060-0336.

ICR Status: The two ICRs are both scheduled to expire on April 30, 2012. Under OMB regulations, the Agency may continue to conduct or sponsor the collection of information while this submission is pending at the OMB. An agency may not conduct or sponsor, and a person is not required to respond to, a collection of information, unless it displays a currently valid OMB control number.

Abstract: Title V of the Clean Air Act (Act) requires states to develop and implement a program for issuing operating permits to all sources that fall under any Act definition of “major” and certain other non-major sources that are subject to federal air quality regulations. The Act further requires the EPA to develop regulations that establish the minimum requirements for those state operating permits programs, to oversee implementation of the state programs, and to operate a federal operating permits program in areas not subject to an approved state program. The EPA regulations setting forth requirements for the state operating permit program are at 40 CFR part 70, and the EPA regulations setting forth the requirements for the federal (EPA) operating permit program are at 40 CFR part 71. The part 70 program is designed to be implemented primarily by state and local permitting authorities in all areas where they have juridiction. The part 71 program is designed to be implemented primarily by the EPA in all areas where state and local agencies do not have jurisdiction, such as Indian country and offshore beyond states' seaward boundaries. The EPA may also delegate authority to implement the part 71 program on its behalf to a state, local or tribal agency if the agency requests delegation and makes certain showings regarding its authority and ability to implement the program. One such delegate agency for the part 71 program exists at present.

In order to receive an operating permit for a major or other source subject to either of the permitting programs, the applicant must conduct the necessary research, perform the appropriate analyses and prepare the permit application with documentation to demonstrate that its facility meets all applicable statutory and regulatory requirements. Specific activities and requirements are listed and described in the Supporting Statements for the two ICRs.

State and local agencies under part 70 and the EPA (or a delegate agency) under part 71 review permit applications, provide for public review of proposed permits, issue permits based on consideration of all technical factors and public input, and review information submittals required of sources during the term of the permit. Also, under part 70, the EPA reviews certain actions of the state and local agencies and provides oversight of the programs to ensure that they are being adequately implemented and enforced. Under part 71, the EPA reviews certain actions and performs oversight for any delegate agency, consistent with the terms of a delegation agreement. Consequently, information prepared and submitted by sources is essential for sources to receive permits, and for federal, state, local and tribal permitting agencies to adequately review the permit applications and thereby properly administer and manage the program.

Since the previous renewal of this ICR, the EPA has promulgated two changes to the part 70 and 71 regulations: the Flexible Air Permits rule and the Greenhouse Gas (GHG) Tailoring rule. The first rule provides a mechanism for sources to establish provisions in their operating permits that result in fewer permit revisions necessary during the term of the permit; the second establishes levels where GHG emissions trigger permitting requirements. The information collection requirements for these regulatory revisions were approved by the OMB after the approval of the 2007 ICR renewals, and those approved changes are included and updated in these ICR renewals. Also, the previous part 71 ICR renewal identifed the EPA as the sole permitting authority, while this part 71 renewal identifies the EPA and one delegate agency, the Navaho Nation, as permitting authorities (the EPA continues to serve as a permitting authority in all areas, while the delegate agency serves as a permitting authority in a limited portion of Indian country).

Burden Statement: Burden means the total time, effort or financial resources expended by persons to generate, maintain, retain or disclose or provide information to or for a federal agency. This includes the time needed to review instructions; develop, acquire, install and utilize technology and systems for the purposes of collecting, validating and verifying information, processing and maintaining information and disclosing and providing information; adjust the existing ways to comply with any previously applicable instructions and requirements which have subsequently changed; train personnel to be able to respond to a collection of information; search data sources; complete and review the collection of information; and transmit or otherwise disclose the information.

The annual public reporting and recordkeeping burden for the collection of information under parts 70 and 71 is broken down as follows:

Type of permit action | Part 70 | Part 71
Number of Sources | 15,940 | 174
Burden Hours per Response: |  |
Sources | 250 | 209
Permitting Authority | 84 | 90
Total Annual Burden Hours:
Sources | 3,977,316 | 36,375
Permitting Authority | 1,336,370 | 1,254 ᵃ
Any minor discrepencies are due to rounding.
ᵃ Only delegate agency burden is shown for part 71.

Respondents/Affected Entities: Industrial plants (sources); state, local and tribal permitting authorities.

Estimated Number of Respondents: For part 70 there are 15,940 sources and 112 state and local permitting authorities. For part 71 there are 174 industry sources and 1 tribal delegate permitting authority. (The EPA serves as a permitting authority but, as a federal agency, is not a respondent.)

Estimated Total Annual Hour Burden: For part 70, the total annual burden for sources and state and local permitting authorities is 5,313,686 hours. For part 71, the total annual burden for sources and the one delegate agency (tribal) is 37,629 hours.

Estimated Total Annual Cost: For part 70, the total annual cost for sources and state and local permitting authorities is $322,734,860. For part 71, the total annual cost for sources and the one delegate agency (tribal) is $2,393,171. In both cases, all costs are labor costs; there are no capital, startup or operating and maintenance costs.

Changes in the Estimates: Since the last renewal of the part 70 ICR (in 2007), there is an decrease of about 199,000 hours (or nearly a 5 percent decrease) of annual respondent burden. This change is primarily due to an updated estimate of the number of permits expected.

Since the last renewal of the part 71 ICR (in 2007), there is an increase of over 10,000 hours of total annual respondent burden (about a 38 percent increase). This is primarily due to an updated estimate of the number of permits expected.

John Moses,
Director, Collection Strategies Division.

[FR Doc. 2012-9896 Filed 4-24-12; 8:45 am]

BILLING CODE 6560-50-P